COMMITTEE FOR THE IMPLEMENTATION OF TEXTILE AGREEMENTS

Adjustment of Import Limits for Certain Cotton, Man-Made Fiber, Silk Blend and Other Vegetable Fiber Textiles and Textile Products Produced or Manufactured in India

November 13, 2000.

AGENCY: Committee for the Implementation of Textile Agreements (CITA).

ACTION: Issuing a directive to the Commissioner of Customs adjusting limits.

EFFECTIVE DATE: November 17, 2000.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted for swing and carryforward.

A description of the textile and apparel categories in terms of HTS numbers is available in the CORRELATION: Textile and Apparel Categories with the Harmonized Tariff Schedule of the United States (see Federal Register notice 64 FR 71982, published on December 22, 1999). Also see 64 FR 70220, published on December 16, 1999.

Richard B. Steinkamp,
Chairman, Committee for the Implementation of Textile Agreements.

Committee for the Implementation of Textile Agreements

November 13, 2000.

Commissioner of Customs,

Department of the Treasury, Washington, DC 20229.

Dear Commissioner: This directive amends, but does not cancel, the directive issued to you on December 10, 1999, by the Chairman, Committee for the Implementation of Textile Agreements. That directive concerns imports of certain cotton, man-made fiber, silk blend and other vegetable fiber textiles and textile products, produced or manufactured in India and exported during the twelve-month period which began on January 1, 2000 and extends through December 31, 2000.

Effective on November 17, 2000, you are directed to adjust the limits for the following categories, as provided for under the Uruguay Round Agreement on Textiles and Clothing:

Category | Adjusted twelve-month limit ¹
Levels in Group I |
219 | 66,589,672 square meters.
313 | 50,310,018 square meters.
314 | 9,972,734 square meters.
315 | 18,315,636 square meters.
317 | 25,551,660 square meters.
334/634 | 185,114 dozen.
335/635 | 754,089 dozen.
342/642 | 1,708,866 dozen.
345 | 248,589 dozen.
369-S ² | 830,219 kilograms.
641 | 1,792,427 dozen.
647/648 | 900,145 dozen.
Group II |
200, 201, 220-227, 237, 239pt. ³, 300, 301, 331-333, 350, 352, 359pt. ⁴, 360-362, 600-604, 606 ⁵, 607, 611-629, 631, 633, 638, 639, 643-646, 649, 650, 652, 659pt. ⁶, 666, 669pt. ⁷, 670, 831, 833-838, 840-858 and 859pt. ⁸, as a group | 162,671,041 square meters equivalent.
¹ The limits have not been adjusted to account for any imports exported after December 31, 1999.
² Category 369-S: only HTS number 6307.10.2005.
³ Category 239pt.: only HTS number 6209.20.5040 (diapers).
⁴ Category 359pt.: all HTS numbers except 6406.99.1550.
⁵ Category 606: all HTS numbers except 5403.31.0040 (for administrative purposes Category 606 is designated as 606(1)).
⁶ Category 659pt.: all HTS numbers except 6406.99.1510 and 6406.99.1540.
⁷ Category 669pt.: all HTS numbers except 5601.10.2000, 5601.22.0090, 5607.49.3000, 5607.50.4000 and 6406.10.9040.
⁸ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,

Richard B. Steinkamp,

Chairman, Committee for the Implementation of Textile Agreements.

[FR Doc.00-29488 Filed 11-16-00; 8:45 am]

BILLING CODE 3510-DR-F